DEPARTMENT OF TRANSPORTATION

Federal Aviation Administration

14 CFR Part 39

[Docket No. FAA-2004-18994; Directorate Identifier 2003-NM-210-AD]

RIN 2120-AA64

Airworthiness Directives; McDonnell Douglas Model DC-9-14 and DC-9-15 Airplanes; and Model DC-9-20, DC-9-30, DC-9-40, and DC-9-50 Series Airplanes

AGENCY: Federal Aviation Administration (FAA), DOT.

ACTION: Notice of proposed rulemaking (NPRM).

SUMMARY: The FAA proposes to adopt a new airworthiness directive (AD) for certain McDonnell Douglas Model DC-9-14 and DC-9-15 airplanes; and Model DC-9-20, DC-9-30, DC-9-40, and DC-9-50 series airplanes. This proposed AD would require repetitive high frequency eddy current inspections to detect cracks in the vertical radius of the upper cap of the center wing rear spar, and repair if necessary. This proposed AD is prompted by reports of cracks in the upper cap of the center wing rear spar that resulted from stress corrosion. We are proposing this AD to detect and correct cracking of the left or right upper cap of the center rear spar, which could cause a possible fuel leak and structural failure of the upper cap, and result in reduced structural integrity of the airplane.

DATES: We must receive comments on this proposed AD by October 18, 2004.

ADDRESSES: Use one of the following addresses to submit comments on this proposed AD.

• DOT Docket Web site: Go to http://dms.dot.gov and follow the instructions for sending your comments electronically.

• Government-wide rulemaking Web site: Go to http://www.regulations.gov and follow the instructions for sending your comments electronically.

• Mail: Docket Management Facility, U.S. Department of Transportation, 400 Seventh Street SW., Nassif Building, room PL-401, Washington, DC 20590.

• By fax: (202) 493-2251.

• Hand delivery: Room PL-401 on the plaza level of the Nassif Building, 400 Seventh Street SW., Washington, DC, between 9 a.m. and 5 p.m., Monday through Friday, except Federal holidays.

For service information identified in this proposed AD, contact Boeing Commercial Airplanes, Long Beach Division, 3855 Lakewood Boulevard, Long Beach, California 90846, Attention: Data and Service Management, Dept. C1-L5A (D800-0024).

You can examine the contents of this AD docket on the Internet at http://dms.dot.gov, or at the Docket Management Facility, U.S. Department of Transportation, 400 Seventh Street SW., room PL-401, on the plaza level of the Nassif Building, Washington, DC.

FOR FURTHER INFORMATION CONTACT: Technical Information: Wahib Mina, Aerospace Engineer, Airframe Branch, ANM-120L, FAA, Los Angeles Aircraft Certification Office, 3960 Paramount Boulevard, Lakewood, California 90712-4137; telephone (562) 627-5324; fax (562) 627-5210.

Plain Language Information: Marcia Walters, marcia.walters@faa.gov.

SUPPLEMENTARY INFORMATION:

Docket Management System (DMS)

The FAA has implemented new procedures for maintaining AD dockets electronically. As of May 17, 2004, new AD actions are posted on DMS and assigned a docket number. We track each action and assign a corresponding directorate identifier. The DMS AD docket number is in the form “Docket No. FAA-2004-99999.” The Transport Airplane Directorate identifier is in the form “Directorate Identifier 2004-NM-999-AD.” Each DMS AD docket also lists the directorate identifier (“Old Docket Number”) as a cross-reference for searching purposes.

Comments Invited

We invite you to submit any written relevant data, views, or arguments regarding this proposed AD. Send your comments to an address listed under ADDRESSES. Include “Docket No. FAA-2004-18994; Directorate Identifier 2003-NM-210-AD” in the subject line of your comments. We specifically invite comments on the overall regulatory, economic, environmental, and energy aspects of the proposed AD. We will consider all comments submitted by the closing date and may amend the proposed AD in light of those comments.

We will post all comments we receive, without change, to http://dms.dot.gov, including any personal information you provide. We will also post a report summarizing each substantive verbal contact with FAA personnel concerning this proposed AD. Using the search function of that Web site, anyone can find and read the comments in any of our dockets, including the name of the individual who sent the comment (or signed the comment on behalf of an association, business, labor union, etc.). You can review DOT's complete Privacy Act Statement in the Federal Register published on April 11, 2000 (65 FR 19477-78), or you can visit http://dms.dot.gov.

We are reviewing the writing style we currently use in regulatory documents. We are interested in your comments on whether the style of this document is clear, and your suggestions to improve the clarity of our communications that affect you. You can get more information about plain language at http://www.faa.gov/language and http://www.plainlanguage.gov.

Examining the Docket

You can examine the AD docket on the Internet at http://dms.dot.gov, or in person at the Docket Management Facility office between 9 a.m. and 5 p.m., Monday through Friday, except Federal holidays. The Docket Management Facility office (telephone (800) 647-5227) is located on the plaza level of the Nassif Building at the DOT street address stated in the ADDRESSES section. Comments will be available in the AD docket shortly after the DMS receives them.

Discussion

We have received several reports of cracking of the upper cap of the center wing rear spar at station Xcw=58.500 on certain McDonnell Douglas Model DC-9 airplanes. These airplanes had accumulated 20,100 to 76,183 total flight hours, and 25,150 to 88,029 total flight cycles. Investigation revealed that the cracks resulted from stress corrosion. This cracking of the left or right upper cap of the center wing rear spar, if not detected and corrected in a timely manner, could cause a possible fuel leak and structural failure of the upper cap, and result in reduced structural integrity of the airplane.

Relevant Service Information

We have reviewed McDonnell Douglas Service Bulletin DC9-57-223, dated July 21, 2003. The service bulletin describes procedures for doing repetitive high frequency eddy current inspections of the left and right upper caps of the center wing rear spar at station Xcw=58.500, and contacting Boeing for repair instructions if any crack is found during the inspections. Accomplishing the actions specified in the service bulletin is intended to adequately address the identified unsafe condition.

FAA's Determination and Requirements of the Proposed AD

We have evaluated all pertinent information and identified an unsafe condition that is likely to exist or develop on other airplanes of this same type design. Therefore, we are proposing this AD, which would require high frequency eddy current inspections, and corrective actions if necessary, in accordance with the FAA. The proposed AD would require you to use the service information described previously to perform these actions, except as discussed under “Difference Between the Proposed AD and the Service Bulletin.”

Difference Between the Proposed AD and the Service Bulletin

Although the service bulletin specifies that operators may contact the manufacturer for disposition of repair conditions, this proposed AD would require operators to repair those conditions per a method approved by the FAA.

Costs of Compliance

This proposed AD would affect about 396 airplanes of U.S. registry and 963 airplanes worldwide. The proposed inspection would take about 3 work hours per airplane, per inspection cycle, at an average labor rate of $65 per work hour. Based on these figures, the estimated cost of the proposed AD for U.S. operators is $77,220, or $195 per airplane, per inspection cycle.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD. See the ADDRESSES section for a location to examine the regulatory evaluation.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

McDonnell Douglas: Docket No. FAA-2004-18994; Directorate Identifier 2003-NM-210-AD.

Comments Due Date

(a) The Federal Aviation Administration (FAA) must receive comments on this AD action by October 18, 2004.

Affected ADs

(b) None.

Applicability

(c) This AD applies to certain McDonnell Douglas Model DC-9-14, DC-9-15, DC-9-21, DC-9-31, DC-9-32, DC-9-32 (VC-9C), DC-9-32F, DC-9-33F, DC-9-34, DC-9-34F, DC-9-32F (C-9A, C-9B), DC-9-41, and DC-9-51 airplanes, certificated in any category; as listed in McDonnell Douglas Service Bulletin DC9-57-223, dated July 21, 2003.

Unsafe Condition

(d) This AD was prompted by reports of cracks in the upper cap of the center wing rear spar that resulted from stress corrosion. We are issuing this AD to detect and correct cracking of the left or right upper cap of the center rear spar, which could cause a possible fuel leak and structural failure of the upper cap, and result in reduced structural integrity of the airplane.

Compliance

(e) You are responsible for having the actions required by this AD performed within the compliance times specified, unless the actions have already been done.

Inspection

(f) At the later of the times specified in paragraph (f)(1) or (f)(2) of this AD: Do a high frequency eddy current inspection to detect cracks in the vertical radius of the upper cap of the center wing rear spar, in accordance with the Accomplishment Instructions of McDonnell Douglas Service Bulletin DC9-57-223, dated July 21, 2003.

(1) Before the accumulation of 25,000 total flight cycles.

(2) Within 15,000 flight cycles or 5 years after the effective date of this AD, whichever occurs first.

Corrective Action

(g)(1) If no crack is found, then repeat the inspection thereafter at intervals not to exceed 15,000 flight cycles or 5 years, whichever occurs first.

(2) If any crack is found, before further flight, repair per a method approved by the Manager, Los Angeles Aircraft Certification Office (ACO), FAA. For a repair method to be approved by the Manager, Los Angeles ACO, as required by this paragraph, the Manager's approval letter must specifically refer to this AD.

Alternative Methods of Compliance (AMOCs)

(h) The Manager, Los Angeles ACO, FAA, has the authority to approve AMOCs for this AD, if requested in accordance with the procedures found in 14 CFR 39.19.

Issued in Renton, Washington, on August 20, 2004.
Kevin M. Mullin,
Acting Manager, Transport Airplane Directorate, Aircraft Certification Service.

[FR Doc. 04-20123 Filed 9-2-04; 8:45 am]

BILLING CODE 4910-13-U